DEPARTMENT OF AGRICULTURE

Office of Partnerships and Public Engagement

New Information Collection: Entities Serving Socially Disadvantaged/Veteran Farmers and Ranchers

AGENCY: OPPE, USDA.

ACTION: Notice of request for approval—new information collection and request for comments.

SUMMARY: In accordance with the Paperwork Reduction Act of 1995, this notice announces the intention of the Office of Partnerships and Public Engagement to request approval for a new information collection for survey administration.

DATES: Comments on this notice must be received within 60 days of publication to be assured of consideration.

ADDRESSES: Office of Partnerships and Public Engagement (OPPE) invites interested persons to submit comments on this notice. Comments may be submitted by one of the following methods:

Federal eRulemaking Portal: This website provides the ability to type short comments directly into the comment field on this web page or attach a file for lengthier comments. Go to http://www.regulations.gov. Follow the on-line instructions at that site for submitting comments.

Mail, including CD-ROMs, etc.: Send to Docket Clerk, U.S. Department of Agriculture, Office of Partnerships and Public Engagement, Docket Clerk, 1400 Independence Ave. SW, Mail Stop 0601, Room 524-A, Washington, DC 20250-3700.

Hand or courier-delivered submittals: Deliver to 1400 Independence Ave. SW, Room 520-A, Washington, DC 20250-3700. You may also send comments to the Desk Officer for Agriculture, Office of Information and Regulatory Affairs, Office of Management and Budget, Washington, DC 20503.

Instructions: All items submitted by mail or electronic mail must include the Agency name and docket number [USDA-OPPE]. Comments received in response to this docket will be made available for public inspection and posted without change, including any personal information, to http://www.regulations.gov.

Docket: For access to background documents or comments received, send requests to the OPPE Docket Room at 1400 Independence Ave. SW, Washington, DC 20250, Mail Stop 3700 between 8:00 a.m. and 4:30 p.m., Monday through Friday.

FOR FURTHER INFORMATION CONTACT: U.S. Department of Agriculture, Attention: Kenya Nicholas, 1400 Independence Ave. SW, Mail Stop 0601, Washington, DC 20250, Office 202-720-6350 and Fax 202-720-7704 or via email at: 2501grants@usda.gov.

SUPPLEMENTARY INFORMATION: Title: Survey—Entities Serving Socially Disadvantaged/Veteran Farmers and Ranchers.

OMB Number: 0503-New.

Expiration Date of Approval: Three years from approval date.

Type of Request: New information collection.

Abstract: The Office of Partnerships and Public Engagement (OPPE) has established a partnership with the Southern Rural Development Council who will be conducting a survey with USDA's stakeholders including nonprofits, community-based and non-governmental organizations, higher education institutions, and others. Participants and stakeholders of USDA's 2501 Program nationwide will assist OPPE in meeting its stakeholder community needs and to increase the impact of services provided, access to, and participation in USDA's programs and services. The information collected is on a single form, illustrating a short assessment of:

1. The self-identification of partners, collaborators, and stakeholders.

2. Programmatic feedback—a short description of challenges faced during grant administration, outreach, and training efforts.

3. Participants contact information.

4. Evaluation on the effectiveness of program delivery.

Estimate of Burden: Public reporting burden for this collection of information is estimated to average .08 hours (15 minutes) per response. [Note: To arrive at this estimate = number of burden hours divided by number of responses.]

Type of Respondents: Higher education institutions, nonprofits, and community-based and non-governmental organizations.

Estimated Number of Respondents: 250.

Estimated Number of Responses: 250.

Estimated Number of Responses per Respondent: 1.

Estimated Total Annual Burden on Respondents: 250.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Comments may be sent to U.S. Department of Agriculture, Attention: Kenya Nicholas, 1400 Independence Ave. SW, Mail Stop 0601, Washington, DC 20250, Office 202-720-6350 and Fax 202-720-7704 or via email at: 2501grants@usda.gov.

All comments received will be available for public inspection during regular business hours at the same address.

All responses to this notice will be summarized and included in the request for OMB approval. All comments will become a matter of public record.

Lisa Ramirez,
Director, Office of Partnerships and Public Engagement.

[FR Doc. 2022-11000 Filed 5-20-22; 8:45 am]

BILLING CODE 3412-89-P